FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201406-001.

Agreement Name: HMM HLC PSX Space Charter Agreement.

Parties: Hapag Lloyd AG; HYUNDAI MERCHANT MARINE CO., LTD.

Filing Party: Joshua Stein; Cozen O'Connor.

Synopsis: The amendment extends the effectiveness of the Agreement through January 31, 2025.

Proposed Effective Date: 04/09/2024.

Location: https://www2.fmc.gov/FMC.Agreements.Web/Public/AgreementHistory/83505.

Agreement No.: 201423.

Agreement Name: ONE to HMM AP1 Space Charter Agreement.

Parties: HYUNDAI MERCHANT MARINE CO., LTD.; Ocean Network Express Pte. Ltd.

Filing Party: Joshua Stein; Cozen O'Connor.

Synopsis: The Agreement authorizes ONE to charter space to HMM on its services in the trade between ports in China, Taiwan, and Vietnam on the one hand and ports on the U.S. West Coast on the other hand.

Proposed Effective Date: 04/09/2024.

Location: https://www2.fmc.gov/FMC.Agreements.Web/Public/AgreementHistory/86558.

Dated: April 12, 2024.
Carl Savoy,
Federal Register Alternate Liaison Officer.

[FR Doc. 2024-08161 Filed 4-16-24; 8:45 am]

BILLING CODE 6730-02-P